GENERAL SERVICES ADMINISTRATION

[Notice-ID-2021-02; Docket No. 2021-0002; Sequence No. 7]

Privacy Act of 1974; Modify System of Records Notice

AGENCY: General Services Administration, (GSA).

ACTION: Notice.

SUMMARY: GSA proposes to modify a system of records subject to the Privacy Act of 1974, as amended.

DATES: Applicable: September 20, 2021.

FOR FURTHER INFORMATION CONTACT: Call or email the GSA Chief Privacy Officer: telephone 202-322-8246; email gsa.privacyact@gsa.gov.

ADDRESSES: Submit comments identified by “Notice-ID-2021-02, Modify System of Records” via http://www.regulations.gov. Search regulations.gov for Notice-ID-2021-02, Modified System of Records Notice. Select the link “Comment” that corresponds with “Notice-ID-2021-02, Modified System of Records Notice.” Follow the instructions provided on the screen. Please include your name, company name (if any), and “Notice-ID-2021-02, Modified System of Records Notice” on your attached document. If your comment cannot be submitted using regulations.gov, call or email the points of contact in the FOR FURTHER INFORMATION CONTACT section of this document for alternate instructions.

SUPPLEMENTARY INFORMATION: GSA proposes to modify a system of records subject to the Privacy Act of 1974, 5 U.S.C. 552a. The system will provide for the collection of information to track and manage the Art in Architecture program, the National Artist Registry and the fine arts collection. The Design Excellence program, within the Office of the Chief Architect, is now also using The Museum System (TMS) to manage the Peer Program. The privacy information within the system will be accessed and used by GSA employees in the Art in Architecture, Fine Arts and the Design Excellence programs.

Richard Speidel,
Chief Privacy Officer, Office of the Deputy Chief Information Officer, General Services Administration.

SYSTEM NAME:

GSA/PBS-7 (The Museum System—TMS)

SYSTEM LOCATION:

The system is maintained for GSA under contract, and the records are maintained in electronic form. The system and records are located at the vendor location in RTP Data Center (GSA Building Code NC9999), 109 T.W. Alexander Drive, Research Triangle Park, NC 27711.

CATEGORIES OF INDIVIDUALS COVERED BY THE SYSTEM:

Individuals in the Art in Architecture, Fine Arts, and the Design Excellence programs, including those in the fine arts collection, and in the National Artist Registry, and the Design Excellence Peer Program.

CATEGORIES OF RECORDS IN THE SYSTEM:

The system contains information needed for managing the Art in Architecture, Fine Arts, and the Design Excellence Peer programs, which includes access to information on artists represented in the fine arts collection, artists in the National Registry, and participants in the Design Excellence Peer program. Records may include but are not limited to: (1) Biographical data such as name, birth date, and educational level; and (2) contact information such as telephone number, street address and email address.

AUTHORITY FOR MAINTENANCE OF THE SYSTEM:

The Federal Property and Administrative Services Act of 1949 (40 U.S.C. 501 et seq., Federal Management Regulation § 102-76.10.

PURPOSE:

To establish and maintain an electronic system to manage and track all details pertaining to the full life cycle of Art in Architecture projects and manage the National Artist Registry, and the Design Excellence Peer program in support of the Art in Architecture program. The system will also support the PBS Fine Arts program to safeguard the fine arts collection against waste, loss and unauthorized use or misappropriation.

ROUTINE USES OF THE SYSTEM RECORDS, INCLUDING CATEGORIES OF USERS AND THEIR PURPOSES FOR USING THE SYSTEM.

System information may be accessed and used by employees of the Art in Architecture and Fine Art, and the Design Excellence Peer programs to manage, track, verify, and update system information.

Information from this system also may be disclosed as a routine use:

a. In any legal proceeding, where pertinent, to which GSA, a GSA employee, or the United States is a party before a court or administrative body.

b. To a Federal, State, local, or foreign agency responsible for investigating, prosecuting, enforcing, or carrying out a statute, rule, regulation, or order when GSA becomes aware of a violation or potential violation of civil or criminal law or regulation.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or his or her staff on behalf of and at the request of the individual who is the subject of the record.

f. To an expert, consultant, or contractor of GSA in the performance of a Federal duty to which the information is relevant.

g. To the National Archives and Records Administration (NARA) for records management purposes.

h. Consistent with professional practices in other arts institutions, nationality and year of birth may be disclosed to the public when relevant to an artist's work.

i. To appropriate agencies, entities, and persons when (1) GSA suspects or has confirmed that there has been a breach of the system of records, (2) GSA has determined that as a result of the suspected or confirmed breach there is a risk of harm to individuals, GSA (including its information systems, programs, and operations), the Federal Government, or national security; and (3) the disclosure made to such agencies, entities, and persons is reasonably necessary to assist in connection with GSA's efforts to respond to the suspected or confirmed breach or to prevent, minimize, or remedy such harm.

j. To another Federal agency or Federal entity, when GSA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORING, RETRIEVING, ACCESSING, AND RETAINING, AND DISPOSING OF SYSTEM RECORDS: STORAGE:

All records are stored electronically.

RETRIEVABILITY:

Records are retrievable based on any information captured, including but not limited to: Name, date of birth, place of birth, and current address.

SAFEGUARDS:

System records are safeguarded in accordance with the requirements of the Privacy Act. Access is limited to authorized individuals with passwords, and the database is maintained behind a firewall certified by the National Computer Security Association.

RETENTION AND DISPOSAL:

121.1/011 Durable Property Records.

This series contains records of both federally-owned and leased buildings used to document standing arrangements with local entities, and reference documents for ongoing management and planning and/or improvements to the properties. These records are maintained for compliance and often included in the design specifications for construction and other improvement projects throughout the property's lifecycle. These records include permits, easements, agreements, commissioning and dedication documents, building evaluation and construction program planning records for that building, records related to environmental safety, fire, life, and security of the property, routine property evaluation and disposal case files, and related records.

Retention: Temporary. Cut off at the end of the fiscal year when building is sold, transferred, closed, or otherwise disposed of. Destroy 10 years after cutoff.

Legal Authority: DAA-0121-2015-0001-0002 (121.1/011).

121.1/040 Significant Art Inventory Records.

This series contains records used in identifying items within the building that are removable or replaceable, or have a significant historical and/or architectural value. For art associated with a building (such as statuary, paintings, and architectural features), records such as inventories, case files, art maintenance records, art appraisals and art restoration documents and related materials are included.

Retention: Permanent. Cut off at the end of the fiscal year when the case file is closed, the artifact is destroyed, transferred, or otherwise de-accessioned. Transfer to NARA 15 years after cutoff.

Legal Authority: DAA-0121-2015-0001-0007 (121.1/040).

121.1/041 Routine Equipment and Art Inventory Records.

This series contains records used in identifying equipment and items within the building that are removable or replaceable. Included are inventories of heating, electrical, plumbing, and air handling equipment, vertical transportation equipment and records related to recording the condition, maintenance, and associated schedules, documentation, and schematics for that equipment. For managing statuary, paintings, and architectural features associated with a building, records include routine correspondence and maintenance reports, exhibition and curated collections management documents, proposal submissions, and other records not filed under 121.1/040—Significant Art Inventory Records.

Retention: Temporary. Cut off at the end of the fiscal year when art or equipment has been deaccessioned, obsolete, or superseded, a case file is closed, or when related documents expire. Destroy 5 fiscal years after cutoff.

Legal Authority: DAA-0121-2015-0001-0008 (121.1/041).

121.4/010 Significant Buildings Program Records.

This series contains records used to assess and plan the PBS program with regard to its owned and leased inventory, the overall programs managed in service to that inventory, and the decisions made based on that information. “Significant” records mean those records that reflect the Public Building Service program as a whole, nationwide compilations or negotiations, and general documents related to the entire program. Such records include agreements with national agencies regarding services, environmental, safety, property use, and disposal activity evaluations, compiled reports, strategic plans, service-wide correspondence, and annual reports on the program.

Retention: Permanent. Cut off at the end of the fiscal year after publishing of the report, termination of an agreement, or when record is superseded, canceled, or obsolete. Transfer to NARA 15 years after cutoff.

Legal Authority: DAA-0121-2015-0001-0017 (121.4/010).

121.4/011 Routine Buildings Program Records.

This series contains resource materials used to assess the PBS program in general, and supports the records created in 121.4/010. Included in this series are such records as summary reports on building and property portfolio assets, space planning, acquisition, regional and national commercial real estate analyses, and related program management reports and initiative records.

Retention: Temporary. Cut off at the end of the fiscal year after publishing of the report, termination of an agreement, or when record is superseded, canceled, or obsolete. Destroy 10 years after cutoff.

Legal Authority: DAA-0121-2015-0001-0018 (121.4/011).

SYSTEM MANAGER AND ADDRESS:

Systems Development Division, Public Building Service, General Services Administration, 1800 F Street NW, Washington, DC 20405.

NOTIFICATION PROCEDURE:

Individuals wishing to inquire if the system contains information about them should contact the system manager at the above address.

RECORD ACCESS PROCEDURES:

Individuals wishing to access their own records should contact the system manager at the address above.

CONTESTING RECORD PROCEDURE:

Individuals wishing to amend their records should contact the system manager at the address above.

RECORD SOURCE CATEGORIES:

The sources for information in the system are data from legacy systems, information submitted by individuals or their representatives, information gathered from public sources and information from the GSA staff directory.

HISTORY:

73 FR 22414.

[FR Doc. 2021-17901 Filed 8-19-21; 8:45 am]

BILLING CODE 6820-34-P